DEPARTMENT OF HEALTH AND HUMAN SERVICES

Performance Review Board Members

Title 5, U.S.C. Section 4314(c)(4) of the Civil Service Reform Act of 1978, Public Law 95-454, requires that the appointment of Performance Review Board Members be published in the Federal Register. The following persons may be named to serve on the Department of Health and Human Services' (HHS) Performance Review Boards (PRB) from 2021 through 2023. The PRB provides performance rating and rating-based compensation recommendations to the HHS Secretary based on the individual performance appraisals for Senior Executive Service, Senior Level/Senior Technical, and Title 42 executive equivalent employees and the organizational assessments of the Operating and Staff Divisions in which they serve.

Last name | First name
AMES | KAREN
ANTHONY | ELISE
ARNOLD | SHARON
BARCLAY | LISA
BARKOFF | ALISON
BARLOW | AMANDA
BARRON | PAMELA
BARRY | DANIEL
BARSTOW | KEVIN
BEADLE | MIRTHA
BETTENCOURT | ALICE
BHARGAVA | DEEPAK
BLACKWELL | EDITH
BLUM | JONATHAN
BOATENG | SARAH
BOTTICELLA | ANGELA
BRATCHER-BOWMAN | NIKKI
BRISBON | HENRIETTA
BROOKS-LASURE | CHIQUITA
BROWN | MARK
BURNSZYNSKI | JENNIFER
BUSH | LAINA
CAMPBELL | CHERYL
CANNING | JAMES
CANNISTRA | JENNIFER
CARNIVAL | DANIELLE
CASH | LESTER
CHA | STEPHEN
CHAMBERS | GEORGE
CHANG | JOOYEUN
CHAPMAN | ANDREA
CHESSEN | SONIA
CLIFFORD | CHAD
COCHRAN | NORRIS
COLLINS | FRANCIS
CONLEY | MARY
COOPER | RENEE
CORMIER | JUSTIN
CRONIN | KELLY
CULPEPPER | MICHAEL
CURTIS | MICHAEL
DAVIS | MICHELLE
DEL VECCHIO | PAOLO
DELEW | NANCY
DELPHIN-RITTMON | MIRIAM
DESPRES | SARAH
DORN | ALAN
DRIGGS | SCOTT
DURSO | LAURA
ESPINOSA | KIMBERLY
FIGUEROA | MARVIN
FINK | DOROTHY
FISHER | BARBARA
FORBER-PRATT | ANJALI
FOWLER | ELIZABETH
FRIEDMAN | RUTH
FRIEDMAN | JENNIFER
FRISTEDT | ANDREA
FROHBOESE | ROBINSUE
FUTRELL | BERNADINE
GOLDHABER | BEN
GOLDSTEIN | NAOMI
GOULDING | MICHAEL
GREENE | JONATHAN
GROSSMAN | JORDAN
HAFFAJEE | REBECCA
HALL | WILLIAM
HALL | WAYNE
HALL | RANDALL
HAMM | KATHLEEN
HANDERHAN | LAWRENCE
HANDLEY | ELISABETH
HARPER | VICTOR
HENDERSON | GRAEME
HERNANDEZ | PATRICK
HILD | STEVEN
HILL | KRISTI
HOFFMAN | JANICE
HOLLAND | HOWARD
HORN | DAVID
HOWARD | LANIKQUE
HUANG | CINDY
JEE | LAUREN
JOHNSON | DEBRA
JOHNSON | DAVID
JONES | CHRISTINE
JONES | KAMARA
JONES | WANDA
KAPPELER | EVELYN
KENNEDY | GAVIN
KERR | LAWRENCE
KESSLER | DAVID
KEVENEY | SEAN
KIM | HANNAH
KRETSCHMAIER | A. MICHON
LANKFORD | DAVID
LEE | LILA
LESKO | MAX
LEVINE | RACHEL
LOPEZ | STEVEN
LOPEZ | ELIZABETH
LOVENHEIM GOLDFARB | SARAH
LYNCH-SMITH | MIRANDA
LYNK | FLORENCE
LYONS | SUSAN
MALONEY | CAROL
MARCELLA | JESSICA
MARTINEZ-SHRIVER | JOANN
MCCLUSKIE | SEAN
MCDANIEL | EILEEN
MCGAREY | BARBARA
MCMILLEN | CHERYL
MILNE | KEVIN
MONTZ | ELLEN
MOTSIOPOULOS | CHRISTOS
MURTHY | VIVEK
NAIMON | DAVID
NICHOLLS | RICHARD
NOLAN | JANET
NOONAN | TIMOTHY
NOVY | STEVEN
O'CONNELL | DAWN
PACE | LOYCE
PARKER HALVERSON | PAMELA
PEARLMAN | AMANDA
PECK | JOSHUA
PECKHAM | MICHAEL
PEREZ | LUIS
PERSON | LISA
PETILLO | JOHN
PETTI | DANA
PIERCE | JULIA
POSNACK | STEVEN
PRESCOTT | JOSEFINA
PRYOR | RACHEL
RAINER | MELANIE
REID | ANNE
RICE | GAREY
RICHARDSON | ERIN
ROBINSON | WILMA
RODRIGUEZ | PAUL
ROMAN | RUTH
SALCIDO | DORINDA
SAMS | IAN
SAUNDERS | MICHAEL
SCHAKE | KRISTINA
SCHOMBURG | AYSHA
SCHUHAM | AARON
SESHAMANI | MEENA
SESHASAI | KARUNA
SHARPLESS | NORMAN
SHERRY | TISAMARIE
SILVA | JORGE
SKEADAS | CHRISTOS
SMITH | JENNIFER
SOMMERS | BENJAMIN
SULLIVAN | ROSE
THOMAS | JOYCE
TOBIAS | CONSTANCE
TOVEN | JEFFREY
TRESS | DEBORAH
TRIPATHI | SUHAS
TSAI | DANIEL
TURNER | MERVIN
VOGEL | JANET
WALENSKY | ROCHELLE
WALKER | EDWIN
WATSON | IAN
WEBB | SANDRA
WILKENING | MICHAEL
WILLIAMS | CARLIS
WILLIAMS | RASHEED
WORONOFF | ARIELLE
WULFF | KATHARINE

Dated: October 13, 2021.
Michelle A. Monroe,
Director, Executive Resources.

[FR Doc. 2021-22748 Filed 10-15-21; 4:15 pm]

BILLING CODE 4151-17-P